DEPARTMENT OF DEFENSE

Department of the Army, Corps of Engineers

Intent To Prepare a Draft Environmental Impact Statement for Evaluating the Placement of Dredged and Fill Material in the Jurisdictional Wetlands on the Protected Side of the West Bank Hurricane Protection Levee, Jefferson Parish, LA

AGENCY: Department of the Army, U.S. Army Corps of Engineers, DoD.

ACTION: Notice of intent.

SUMMARY: The U.S. Army Corps of Engineers (Corps), New Orleans District, at the request of the Parish of Jefferson, State of Louisiana, is initiating this study under the authority of the Clean Water Act, 33 U.S.C. 1251, et seq., and the National Environmental Policy Act (NEPA), 42 U.S.C. 4321, et seq. In May 2000, the Parish of Jefferson, State of Louisiana, applied for a 404 Permit for the development of those areas deemed jurisdictional under the Clean Water Act which lie on the protected side of the West Bank Hurricane Protection Levee. The public notice was issued on June 19, 2001. The public comment period closed on or about July 29, 2001. As a result of the comments received and after consultation between the Corps and Jefferson Parish, it has been determined that an Environmental Impact Statement (EIS) ought to be prepared.

FOR FURTHER INFORMATION CONTACT: Questions concerning the EIS should be addressed to Mr. Michael Salyer at U.S. Army Corps of Engineers, PM-RS, P.O. Box 60267, New Orleans, LA 70160-0267, phone (504) 862-2037, fax number (504) 862-2572 or by E-mail at michael.r.salyer@mvn02.usace.army.mil.

SUPPLEMENTARY INFORMATION:

1. Proposed Action. The proposed action would authorize the placement of dredged and fill material in the jurisdictional wetlands on the protected side of the West Bank Hurricane Protection Levee, in the area described in the Parish's 404 Permit Application as the Barataria Corridor. This would allow for the implementation of the Parish's Comprehensive Land Use Plan and reduce the need for individual 404 permits to be submitted for every action but expedite the process by covering the entire Barataria Corridor with one permit action.

2. Alternatives. The alternative presently being considered is the no action alternative, which would leave in place the current parcel-by-parcel permitting activity.

3. Scoping. Scoping is the process for determining the scope of alternatives and significant resources and issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in November of 2002. The meeting will be held in the vicinity of Marrero, LA. Additional meetings could be held, depending upon interest and if it is determined that further public coordination is warranted.

4. Significant Resources. The tentative list of resources and issues to be evaluated in the EIS includes tidal wetlands (marshes and swamps), aquatic resources, commercial and recreational fisheries, wildlife resources, essential fish habitat, water quality, air quality, threatened and endangered species, recreation resources, and cultural resources. Socioeconomic items to be evaluated in the EIS include navigation, flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. Coordination will be accomplished with the USFWS and the National Marine Fisheries Service (NMFS) concerning threatened and endangered species and their critical habitat. The NMFS will be consulted on the effects of this proposed action on Essential Fish Habitat. The draft EIS (DEIS) or a notice of its availability will be distributed to all interested agencies, organizations, and individuals.

6. Estimated Date of Availability. Funding levels will dictate the date when the DEIS is available. The earliest that the DEIS is expected to be available in the spring of 2004.

Dated: October 15, 2002.
Peter J. Rowan,
Colonel, U.S. Army, District Engineer.

[FR Doc. 02-27721 Filed 10-30-02; 8:45 am]

BILLING CODE 3710-84-P